DEPARTMENT OF AGRICULTURE

Agricultural Marketing Service

[Document No. AMS-FV-11-0050, FV-11-326]

United States Standards for Grades of Grapefruit Juice

AGENCY: Agricultural Marketing Service, USDA.

ACTION: Notice and request for comments.

SUMMARY: The Agricultural Marketing Service (AMS), prior to undertaking research and other work associated with revising official U.S. grade standards, is soliciting comments on a request to revise the United States Standards for Grades of Grapefruit Juice. AMS received a petition from the Florida Citrus Processors Association asking AMS to consider revising the current U.S. grade standards for grapefruit juice to account for advances in industry processing technology.

DATES: Comments must be received by October 17, 2011.

ADDRESSES: Interested persons are invited to submit written comments on the Internet at http://www.regulations.gov or to Brian E. Griffin, Inspection and Standardization Section, Processed Products Branch, Fruit and Vegetable Programs, Agricultural Marketing Service, U.S. Department of Agriculture, 1400 Independence Avenue, SW., Room 0709, South Building; STOP 0247, Washington, DC 20250; telephone (202) 720-4693; fax (202) 690-1527, e-mail brian.griffin@ams.usda.gov. Comments should make reference to the date and page number of this issue of the Federal Register and will be made available for public inspection at the above office during regular business hours.

Please be advised that all comments submitted in response to this notice will be included in the record and will be made available to the public on the Internet via http://www.regulations.gov. Also, the identity of the individuals or entities submitting the comments will be made public. The U.S. Standards for Grades of Grapefruit Juice identified in this notice are available either at the above address or by accessing the AMS Web site at: http://www.ams.usda.gov/processedinspection.

FOR FURTHER INFORMATION CONTACT: Brian E. Griffin, Inspection and Standardization Section, Processed Products Branch, Agricultural Marketing Service, U.S. Department of Agriculture, telephone (202) 720-5021; or fax (202) 690-1527.

SUPPLEMENTARY INFORMATION:

Background

AMS received a petition from the Florida Citrus Processors Association, an association of citrus producers, requesting revisions to the United States Standards for Grades of Grapefruit Juice. These standards are issued under the Agricultural Marketing Act of 1946 (7 U.S.C. 1621-1627). The petitioners are requesting the removal of the maximum limit for “free and suspended pulp” (referred to in the industry as “sinking pulp”) from the U.S. grade standards for all forms of grapefruit juice.

The current grade standards, effective since September 12, 1983, provide that grapefruit juice from concentrate, grapefruit juice, and frozen concentrated grapefruit juice establish limits for maximum free and suspended pulp as follows: Grade A—10 percent by volume, Grade B—15 percent by volume. Concentrated grapefruit juice for manufacturing requirements for maximum free and suspended pulp are as follows: Grade A—10 percent by volume, and Grade B—12 percent by volume.

The petitioners believe that, with respect to maximum values for free and suspended pulp, the existing U.S. Standards for Grades of Grapefruit Juice do not take into account modern extraction and finishing technologies, nor are they supported by evidence of a correlation between these criteria and acceptable flavor. The petitioners are requesting that AMS revise the U.S. Standards for Grades of Grapefruit Juice by removing any parameters for maximum free and suspended pulp.

The petitioners believe that removing the free and suspended pulp values from the grade standards would allow processors to process the entire grapefruit crop without resorting to expensive technologies that increase the cost of juice with no concomitant benefit. More mature grapefruit tends to be sweeter, but when juiced tends to cause the product to exceed maximum free and suspended pulp values. The petitioners have submitted research data covering a six-season period which illustrates levels of sinking pulp vs. naringin, and levels of sinking pulp vs. limonin using various extractor setups. The petitioners have also submitted data on a sensory evaluation performed by the University of Florida on consumer acceptability of grapefruit juice with two free and suspended pulp levels. A copy of the petitioner's request and supporting documentation is located on the Internet at http://www.regulations.gov along with the current U.S. Standards for Grades of Grapefruit Juice.

Agricultural Marketing Service

AMS is soliciting comments on the proposed revision of the U.S. Standards for Grades of Grapefruit Juice. In particular, AMS would welcome comments and information regarding the probable impact on processors and growers. Further details are provided in the petition and are available from Brian E. Griffin at the previously mentioned address in the FOR FURTHER INFORMATION CONTACT section or can be found on the Internet at http://www.regulations.gov. This notice provides for a 60-day comment period for interested parties to comment on the proposed revision of the U.S. Standards for Grades of Grapefruit Juice.

Authority: 7 U.S.C. 1621-1627.

Dated: August 10, 2011.
David R. Shipman,
Acting Administrator, Agricultural Marketing Service.

[FR Doc. 2011-20787 Filed 8-17-11; 8:45 am]

BILLING CODE 3410-02-P